DEPARTMENT OF JUSTICE

Notice of Lodging of Proposed Consent Judgment Under the Resource Conservation and Recovery Act

On August 1, 2016, the Department of Justice lodged a proposed Consent Judgment with the United States District Court for the Eastern District of New York in the lawsuit entitled United States v. Nedjet Yetim, et al., Civil Action No. 14-0847.

The proposed consent judgment will resolve the United States' claims under Section 9006 of the Resource Recovery and Conservation Act, as amended, on behalf of the U.S. Environmental Protection Agency, against the following defendants: Rachelann Yetim, Black Realty, Inc., Fast Gasoline Station, Inc., TAG Gasoline, Inc., NGRV Realty Co., Inc., and Venus Bukey Realty, Inc. (the “Rachelann Defendants”). The United States alleges that the Rachelann Defendants violated the regulations set forth at 40 CFR part 280, governing underground storage tanks (“USTs”), at three facilities—automobile fueling stations with USTs—that the Rachelann Defendants have owned and/or operated at the following locations:

1. 653 Hempstead Turnpike, Elmont, New York

2. 725 Wyandanch Ave, North Babylon, New York

3. 4305 Austin Blvd., Island Park, New York

The consent judgment requires the Rachelann Defendants to pay a civil penalty of $60,000, which was calculated after conducting an ability-to-pay analysis. The consent judgment also provides for injunctive relief, which will consist of maintaining compliance with the UST regulations and submission of reports demonstrating such compliance, to be implemented over the next three years at the Rachelann Defendants' facilities.

The publication of this notice opens a period for public comment on the proposed Consent Judgment. Comments should be addressed to the Assistant Attorney General, Environment and Natural Resources Division, and should refer to United States v. Nedjet Yetim, et al., D.J. Ref. No. 90-7-1-10743. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Judgment may be examined and downloaded at this Justice Department Web site: https://www.justice.gov/enrd/consent-decrees. We will provide a paper copy of the proposed Consent Judgment upon written request and payment of reproduction costs. Please mail your request and payment to: Consent Decree Library, U.S. DOJ—ENRD, P.O. Box 7611, Washington, DC 20044-7611.

Please enclose a check or money order for $9.00 (25 cents per page reproduction cost) payable to the United States Treasury.

Robert E. Maher, Jr.,
Assistant Section Chief, Environmental Enforcement Section.

[FR Doc. 2016-18603 Filed 8-4-16; 8:45 am]

BILLING CODE 4410-15-P